DEPARTMENT OF JUSTICE

Notice of Lodging of Consent Decree Pursuant to the Comprehensive Environmental Response, Compensation, and Liability Act of 1980, as Amended

Notice is hereby given that a proposed Consent Decree in the action entitled United States v. Hathaway-Braley Wharf Co., Civil Action No. 03 CV 11259WGY (D. Mass.), was lodged on July 2, 2003, with the United States District Court for the District of Massachusetts. The proposed Consent Decree resolves claims of the United States, under Sections 106 and 107(a) of the Comprehensive Environmental Response, Compensation, and Liability Act (“CERCLA”), 42 U.S.C. 9606 and 9607(a), against Hathaway-Braley Wharf Company, Inc. (“Hathaway-Braley”) in connection with the Atlas Tack Corporation Superfund Site (“Site”) located in Fairhaven, Massachusetts. The Consent Decree will also resolve claims of the Commonwealth of Massachusetts (“Commonwealth”) in connection with the Site under section 107(a) of CERCLA and section 5(a) of the Massachusetts Oil and Hazardous Material Release Prevention and Response Act, M.G.L. c. 21E.

Under the proposed Consent Decree, Hathaway-Braley will make a payment of $501,575 to the United States to reimburse the United States for its past and future response costs incurred in connection with the Site and $51,125 to the Commonwealth to reimburse the Commonwealth for its past and future response costs incurred in connection with the Site. In addition, Hathaway-Braley has agreed to record an Environmental Restriction and Easement (“ERE”) with respect to the two parcels of property, totaling about 6.2 acres (the “Property”), owned by Hathaway-Braley at the Site. The ERE will impose certain restrictions on the use of a portion of the Property and will also provide certain access rights with respect to the Property.

With respect to natural resource damages, Hathaway-Braley has agreed to pay $4,990 to the United States Department of the Interior and $510 to the National Oceanic and Atmospheric Administration in order to reimburse them for damage assessment costs. In addition, Hathaway-Braley has agreed to place a Conservation Easement and Restriction on the Property that will require the Property to be kept in its natural state in perpetuity.

The Department of Justice will receive for a period of thirty (30) days from the date of this publication comments relating to the proposed Consent Decree. Comments should be addressed to the Assistant Attorney General, Environment and Natural Resources Division, PO Box 7611, U.S. Department of Justice, Washington, DC 20044-7611, and should refer to United States v. Hathaway-Braley Wharf Co., Civil Action No. 03 CV 11259 (D. Mass.), DOJ No. 90-11-3-06890/1. A copy of the comments should also be sent to Donald G. Frankel, Trial Attorney, Environmental Enforcement Section, Environment and Natural Resources Division, U.S. Department of Justice, One Gateway Center, Suite 616, Newton, Massachusetts 02458.

The proposed Consent Decree may be examined at EPA Region 1, One Congress Street, Suite 1100, Boston, MA 02114-2023 (contact Ronald González at (617) 918-1786), and at the Office of the United States Attorney for the District of Massachusetts, 1 Courthouse Way, Boston, Massachusetts 02210 (contact Bunker Henderson at (617) 748-3272). During the public comment period, the Consent Decree may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547, referencing United States v. Hathaway-Braley Wharf Co., Civil Action No. 03 CV 11259WGY (D. Mass.), DOJ No. 90-11-3-06890/1. In requesting a copy, please enclose a check in the amount of $24 (25 cents per page reproduction cost) payable to the U.S. Treasury.

Ronald G. Gluck,
Assistant Chief, Environmental Enforcement Section, Environment and Natural Resources Division.

[FR Doc. 03-18052 Filed 7-16-03; 8:45 am]

BILLING CODE 4410-15-M